DEPARTMENT OF COMMERCE

International Trade Administration

U.S. Travel and Tourism Advisory Board: Meeting of the U.S. Travel and Tourism Advisory Board

AGENCY: International Trade Administration, Commerce.

ACTION: Notice of an open meeting.

SUMMARY: The U.S. Travel and Tourism Advisory Board (Board) will hold a meeting to discuss topics related to the travel and tourism industry. The Board was established on October 1, 2003, and reconstituted October 1, 2005, to advise the Secretary of Commerce on matters relating to the travel and tourism industry.

DATES: January 30, 2007. Time: 3 p.m. to 5 p.m. (EDT).

ADDRESSES: 1401 Constitution Avenue, Department of Commerce, Washington, DC. This program will be physically accessible to people with disabilities. Seating is limited and will be on a first-come, first-served basis. Requests for sign language interpretation, other auxiliary aids, or pre-registration, should be submitted no later than January 22, 2007, to Jessica Arnold, U.S. Travel and Tourism Advisory Board, Room 4043, 1401 Constitution Avenue, NW., Washington, DC 20230, telephone 202-482-4501, Jessica.Arnold@mail.doc.gov.

FOR FURTHER INFORMATION CONTACT: Jessica Arnold, U.S. Travel and Tourism Advisory Board, Room 4043, 1401 Constitution Avenue, NW., Washington, DC 20230, telephone: 202-482-4501, e-mail: Jessica.Arnold@mail.doc.gov.

Dated: January 11, 2007.
Jessica Arnold,
Executive Secretary, U.S. Travel and Tourism Advisory Board.

[FR Doc. 07-136 Filed 1-11-07; 2:27 pm]

BILLING CODE 3510-DR-P